RAILROAD RETIREMENT BOARD

Proposed Collection; Comment Request

SUMMARY: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Application and Claim for Sickness Insurance Benefits; OMB 3220-0039.

Under section 2 of the Railroad Unemployment Insurance Act (RUIA), sickness benefits are payable to qualified railroad employees who are unable to work because of illness or injury. In addition, sickness benefits are payable to qualified female employees if they are unable to work, or if working would be injurious, because of pregnancy, miscarriage or childbirth. Under Section 1(k) of the RUIA, a statement of sickness with respect to days of sickness of an employee is to be filed with the RRB within a 10-day period from the first day claimed as a day of sickness. The RRB's authority for requesting supplemental medical information is section 12(i) and 12(n) of the RUIA. The procedures for claiming sickness benefits and for the RRB to obtain supplemental medical information needed to determine a claimant's eligibility for such benefits are prescribed in 20 CFR part 335.

The forms used by the RRB to obtain information needed to determine eligibility for and the amount of sickness benefits due a claimant follows: Form SI-1a, Application for Sickness Benefits; Form SI-1b, Statement of Sickness; Form SI-3, Claim for Sickness Benefits; Form SI-7, Supplemental Doctor's Statement; Form SI-8, Verification of Medical Information; Form ID-7h, Non-Entitlement to Sickness Benefits and Information on Unemployment Benefits; Form ID-11a, Requesting Reason for Late Filing of Sickness Benefit and ID-11b, Notice of Insufficient Medical and Late Filing. Completion is required to obtain or retain benefits. One response is requested of each respondent.

The RRB proposes no changes to Forms(s) SI-1a, SI-1b, SI-8, ID-7h, ID-11a and ID-11b. Non burden impacting editorial and formatting changes are proposed to Form(s) SI-3 and SI-7.

Estimated of Annual Respondent Burden: The estimated annual respondent burden is as follows:

Form #(s) | Annual responses | Time (min) | Burden (hrs)
SI-1a | 22,200 | 10 | 3,700
SI-1b(Doctor) | 22,200 | 8 | 2,960
SI-3 | 181,000 | 5 | 15,083
SI-7 | 33,600 | 8 | 4,480
SI-8 | 50 | 5 | 4
ID-7H | 50 | 5 | 4
ID-11A | 800 | 3 | 40
ID-11B | 1000 | 3 | 50
Total | 260,900 |  | 26,321

Additional Information or Comments: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 03-26341 Filed 10-17-03; 8:45 am]

BILLING CODE 7905-01-M